DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting an administrative supplement in scope of the parent award for one grant recipient funded in FY 2020 under the National Peer-Run Training and TA Center for Addiction Recovery Peer Support grant, Notice of Funding Opportunity (NOFO) TI-20-004. The recipient may receive up to $941,960. The recipient has a project end date of August 30, 2024.

FOR FURTHER INFORMATION CONTACT: David Awadalla, Substance Abuse and Mental Health Services Administration, 5600 Fishers Lane, Rockville, MD 20857, telephone 240-276-0205; email: David.awadalla@samhsa.hhs.gov.

SUPPLEMENTARY INFORMATION: The supplemental funding will be used to:

• Expand/target direct and proactive technical assistance (TA) core content areas.

• Expand TA efforts to collegiate recovery settings.

• Expand and support Recovery Community Organizations (RCO) with development and billing strategies.

• Expand strategies of support for RCOs, with a special emphasis on billing and reimbursement practices.

• Encourage the adoption of SAMHSA's National Model Standards for Peer Support Certification, which can include the development of guidance documents, fact sheets, webinars, trainings, and other resources that support adoption (e.g., a national peer certification Code of Ethics), and sub-awards for state certifications to help support the implementation of innovative pilot ways to adopt the standards.

Funding Opportunity Title: National Peer-Run Training and TA Center for Addiction Recovery Peer Support, TI-20-004.

Assistance Listing Number: 93.243.

Authority: Section 7152 of the SUPPORT Act for Patients and Communities.

Justification: University of Missouri-Kansas City (UMKC) is the only SAMHSA-funded grant recipient of this NOFO and has the capacity and expertise to provide recovery-related technical assistance (TA). This supplement is to expand recovery-related TA, including TA related to peer recover support services and collegiate recovery.

This is not a formal request for application. Assistance will only be provided to the grant recipient funded in FY 2020 under the National Peer-Run Training and TA Center for Addiction Recovery Peer Support [TI-20-004] based on the receipt of a satisfactory application and associated budget that is approved by a review group.

Dated: June 30, 2023.
Ann Ferrero,
Public Health Analyst.

[FR Doc. 2023-14278 Filed 7-5-23; 8:45 am]

BILLING CODE 4162-20-P